DEPARTMENT OF COMMERCE

International Trade Administration

[A-580-889]

Dioctyl Terephthalate From the Republic of Korea: Final Results of Antidumping Duty Administrative Review and Final Determination of No Shipments; 2019-2020

AGENCY: Enforcement and Compliance, International Trade Administration, Department of Commerce.

SUMMARY: The Department of Commerce (Commerce) determines that LG Chem Ltd. (LG Chem), a producer or exporter subject to this review, made sales of subject merchandise at less than normal value during the period of review (POR) August 1, 2019, through July 31, 2020. Commerce determines that Aekyung Petrochemical Co., Ltd. (AKP) had no shipments of subject merchandise during the POR.

DATES: Applicable August 11, 2021.

FOR FURTHER INFORMATION CONTACT: Laurel LaCivita or Patrick Barton, AD/CVD Operations, Office III, Enforcement and Compliance, International Trade Administration, U.S. Department of Commerce, 1401 Constitution Avenue NW, Washington, DC 20230; telephone: (202) 482-4243 or (202) 482-0012, respectively.

SUPPLEMENTARY INFORMATION:

Background

On May 7, 2021, Commerce published the Preliminary Results of this administrative review.¹ We invited interested parties to comment on the Preliminary Results.² This review covers two respondents: AKP, and LG Chem. None of the parties to the proceeding provided comments on our Preliminary Results.

¹ See Dioctyl Terephthalate from the Republic of Korea: Preliminary Results of Antidumping Duty Administrative Review and Preliminary Determination of No Shipments; 2019-2020, 86 FR 24585 (May 7, 2021) (Preliminary Results), and accompanying Preliminary Decision Memorandum.

Scope of the Order

The merchandise covered by this order is dioctyl terephthalate (DOTP), regardless of form. DOTP that has been blended with other products is included within this scope when such blends include constituent parts that have not been chemically reacted with each other to produce a different product. For such blends, only the DOTP component of the mixture is covered by the scope of this order.

DOTP that is otherwise subject to this order is not excluded when commingled with DOTP from sources not subject to this order. Commingled refers to the mixing of subject and non-subject DOTP. Only the subject component of such commingled products is covered by the scope of the order.

DOTP has the general chemical formulation C6H4(C8H17COO)2 and a chemical name of “bis (2-ethylhexyl) terephthalate” and has a Chemical Abstract Service (CAS) registry number of 6422-86-2. Regardless of the label, all DOTP is covered by this order.

Subject merchandise is currently classified under subheading 2917.39.2000 of the Harmonized Tariff Schedule of the United States (HTSUS). Subject merchandise may also enter under subheadings 2917.39.7000 or 3812.20.1000 of the HTSUS. While the CAS registry number and HTSUS classification are provided for convenience and customs purposes, the written description of the scope of this order is dispositive.

Application of Adverse Facts Available

For these final results, we continue to find that LG Chem withheld information requested by Commerce, failed to provide the requested information in the form and manner requested, and significantly impeded the proceeding, warranting a determination on the basis of the facts available under section 776(a) of the Act. Further, we continue to find that LG Chem failed to cooperate to the best of its ability pursuant to section 776(b) of the Act by declining to participate in the review. Therefore, we continue to find that the application of adverse facts available, pursuant to sections 776(a) and (b) of the Act, is warranted with respect to LG Chem.

Final Determination of No Shipments

In the Preliminary Results, Commerce determined that AKP had no shipments of subject merchandise during the POR.² As Commerce did not receive any comments on its preliminary finding, nor any information to contradict its preliminary determination of no shipments, Commerce continues to find that AKP did not have any shipments of subject merchandise during the POR. Accordingly, consistent with Commerce's practice,³ we intend to instruct U.S. Customs and Border Protection (CBP) to liquidate any existing entries of subject merchandise produced by AKP, but exported by other parties, at the rate for the intermediate reseller, if available, or at the all-others rate of 3.69 percent.⁴

² See Preliminary Results, 86 FR 24585, 24585-86; see also Preliminary Decision Memorandum at 3.

³ See, e.g., Certain Corrosion-Resistant Steel Products from Taiwan: Final Results of the Antidumping Duty Administrative Review and Final Determination of No Shipments; 2018-2019, 86 FR 28554 (May 27, 2021).

⁴ See Dioctyl Terephthalate from the Republic of Korea: Antidumping Duty Order, 82 FR 39410 (August 18, 2017).

Final Results of the Administrative Review

Commerce conducted this review in accordance with section 751 of the Tariff Act of 1930, as amended (the Act). Because no party submitted comments on the Preliminary Results, the final results remain unchanged from the Preliminary Results.

We determine that the following weighted-average dumping margin exists for the period August 1, 2019, through July 31, 2020:

Exporter or producer | Weighted-average dumping margin (percent)
LG Chem, Ltd | 47.86

Disclosure

As noted above, Commerce received no comments on its Preliminary Results. As a result, we have not modified our analysis, and will not issue a decision memorandum to accompany this Federal Register notice. Further, because these results are based on the application of adverse facts available and we have not changed our analysis since the Preliminary Results, there are no calculations to disclose in accordance with 19 CFR 351.224(b) for these final results.

Assessment Rates

Pursuant to section 751(a)(2)(A) of the Act and 19 CFR 351.212(b)(1), Commerce will determine, and CBP shall assess, antidumping duties on all appropriate entries of subject merchandise in accordance with the final results of this review. For LG Chem, we will instruct CBP to apply an ad valorem assessment rate for antidumping duties equal to LG Chem's weighted-average dumping margin listed above to all entries of subject merchandise during the POR exported or produced by LG Chem.

For AKP, which we determined had no shipments during the POR, we will instruct CBP to liquidate any suspended entries associated with AKP pursuant to the reseller policy.⁵

⁵ For a full discussion of this practice, see Antidumping and Countervailing Duty Proceedings: Assessment of Antidumping Duties, 68 FR 23954 (May 6, 2003).

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective for all shipments of subject merchandise entered, or withdrawn from warehouse, for consumption on or after the publication date of the final results of this administrative review, as provided by section 751(a)(2)(C) of the Act: (1) The cash deposit rate for LG Chem will be equal to its weighted-average dumping margin established in the final results of this administrative review; (2) for merchandise exported by a company not covered in this review but covered in a prior completed segment of the proceeding, the cash deposit rate will continue to be the company-specific rate published for the most recent period; (3) if the exporter is not a firm covered in this review, a prior review, or the original investigation but the producer has been covered in a prior complete segment of this proceeding, the cash deposit rate will be the rate established for the most recent period for the producer of the merchandise; (4) the cash deposit rate for all other producers or exporters will continue to be 3.69 percent,⁶ the all-others rate established in the less-than-fair-value investigation.

⁶ See Dioctyl Terephthalate from the Republic of Korea: Antidumping Duty Order, 82 FR 39410 (August 18, 2017).

These cash deposit requirements, when imposed, shall remain in effect until further notice.

Notification to Importers

This notice also serves as a final reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

Notification Regarding Administrative Protective Order

This notice also serves as a reminder to parties subject to administrative protective order (APO) of their responsibility concerning the disposition of proprietary information disclosed under APO in accordance with 19 CFR 351.305(a)(3). Timely written notification of the return or destruction of APO materials or conversion to judicial protective order is hereby requested. Failure to comply with the regulations and the terms of an APO is a sanctionable violation.

Notification to Interested Parties

We are issuing and publishing these final results of administrative review in accordance with sections 751(a)(1) and 777(i) of the Act, and 19 CFR 351.221(b)(5).

Dated: July 30, 2021.
Christian Marsh,
Acting Assistant Secretary for Enforcement and Compliance.

[FR Doc. 2021-17094 Filed 8-10-21; 8:45 am]

BILLING CODE 3510-DS-P